DEPARTMENT OF TRANSPORTATION

Federal Aviation Administration

14 CFR Part 39

[Docket No. FAA-2010-0276; Directorate Identifier 2009-NM-144-AD]

RIN 2120-AA64

Airworthiness Directives; Bombardier, Inc. Model CL-600-2B19 (Regional Jet Series 100 & 440) Airplanes

AGENCY: Federal Aviation Administration (FAA), DOT.

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as: Three cases of in-flight loss of cabin pressurization have been reported, resulting from failure of a bulkhead check valve in combination with failure of an air supply duct. In addition to mandating inspection, rework and/or replacement of the air supply ducts, Airworthiness Directive (AD) CF-2003-05 (subsequently revised to CF-2003-05R1) [which corresponds to FAA AD 2004-22-08] mandated the incorporation of a 4000 flight-hour repetitive inspection task for bulkhead check valves, Part Numbers (P/N) 92E20-3 and 92E20-4, into the approved maintenance schedule. However, this repetitive inspection task has since been superseded by a 3000 flight-hour periodic discard task for these bulkhead check valves. This directive mandates revision of the approved maintenance schedule to incorporate the discard task for bulkhead check valves, P/N 92E20-3 and 92E20-4, and supersedes the instructions in Corrective Actions, Part A, of AD CF-2003-05R1, dated 7 February 2006. The proposed AD would require actions that are intended to address the unsafe condition described in the MCAI.

DATES: We must receive comments on this proposed AD by May 20, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Bombardier, Inc., 400 Côte-Vertu Road West, Dorval, Québec H4S 1Y9, Canada; telephone 514-855-5000; fax 514 855-7401; e-mail thd.crj@aero.bombardier.com; Internet http://www.bombardier.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Christopher Alfano, Airframe and Mechanical Systems Branch, ANE-171, FAA, New York Aircraft Certification Office (ACO), 1600 Stewart Avenue, Suite 410, Westbury, New York 11590; telephone (516) 228-7340; fax (516) 794-5531.

SUPPLEMENTARY INFORMATION:

Comments Invited

We invite you to send any written relevant data, views, or arguments about this proposed AD. Send your comments to an address listed under the ADDRESSES section. Include “Docket No. FAA-2010-0276; Directorate Identifier 2009-NM-144-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

On October 18, 2004, we issued AD 2004-22-08, Amendment 39-13836 (69 FR 62807, October 28, 2004). That AD required actions intended to address an unsafe condition on the products listed above.

Since we issued AD 2004-22-08, Transport Canada Civil Aviation (TCCA), which is the aviation authority for Canada, has issued Canadian Airworthiness Directive CF-2009-31, dated July 8, 2009 (referred to after this as “the MCAI”), to correct an unsafe condition for the specified products. The MCAI states:

Three cases of in-flight loss of cabin pressurization have been reported, resulting from failure of a bulkhead check valve in combination with failure of an air supply duct.

In addition to mandating inspection, rework and/or replacement of the air supply ducts, Airworthiness Directive (AD) CF-2003-05 (subsequently revised to CF-2003-05R1) [which corresponds to FAA AD 2004-22-08] mandated the incorporation of a 4000 flight-hour repetitive inspection task for bulkhead check valves, Part Numbers (P/N) 92E20-3 and 92E20-4, into the approved maintenance schedule. However, this repetitive inspection task has since been superseded by a 3000 flight-hour periodic discard task for these bulkhead check valves.

This directive mandates revision of the approved maintenance schedule to incorporate the discard task for bulkhead check valves, P/N 92E20-3 and 92E20-4, and supersedes the instructions in Corrective Actions, Part A, of AD CF-2003-05R1, dated 7 February 2006.

You may obtain further information by examining the MCAI in the AD docket.

Relevant Service Information

Bombardier has issued Temporary Revision (TR) 1-2-39, dated December 12, 2008, to Section 2—Systems and Powerplant Program, of Part 1 of the Bombardier CL-600-2B19 Maintenance Requirements Manual (MRM) CSP A-053. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Changes to Existing AD

This proposed AD would retain certain requirements of AD 2004-22-08. Since AD 2004-22-08 was issued, the AD format has been revised, and certain paragraphs have been rearranged. As a result, the corresponding paragraph identifiers have changed in this proposed AD, as listed in the following table:

Revised Paragraph Identifiers
Requirement in AD 2004-22-08 | Corresponding requirement in this proposed AD
paragraph (a) | paragraph (g)
paragraph (b) | paragraph (h)
paragraph (c) | paragraph (i)

We have removed the service bulletin definition paragraph from the restated requirements of AD 2004-22-08. (That paragraph was identified as paragraph (a)(1) in AD 2004-22-08.) Instead, we have provided the full service bulletin citations throughout this NPRM.

Costs of Compliance

Based on the service information, we estimate that this proposed AD would affect about 644 products of U.S. registry.

The actions that are required by AD 2004-22-08 and retained in this proposed AD take about 15 work-hours per product, at an average labor rate of $85 per work hour. Required parts cost about $0 per product. Based on these figures, the estimated cost of the currently required actions is $1,869 per product.

We estimate that it would take about 1 work-hour per product to comply with the new requirement to revise the ALI. The average labor rate is $85 per work-hour. Based on these figures, we estimate the cost of this requirement of the proposed AD on U.S. operators to be $54,740, or $85 per product.

We estimate that it would take about 5 work-hours per product to comply with the new inspection requirement. The average labor rate is $85 per work-hour. Required parts would cost about $594 per product, per replacement cycle. Where the service information lists required parts costs that are covered under warranty, we have assumed that there will be no charge for these costs. As we do not control warranty coverage for affected parties, some parties may incur costs higher than estimated here. Based on these figures, we estimate the cost of the inspection requirements of the proposed AD on U.S. operators to be $656,236, or $1,019 per product, per replacement cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13836 (69 FR 62807, October 28, 2004) and adding the following new AD:

Bombardier, Inc.: Docket No. FAA-2010-0276; Directorate Identifier 2009-NM-144-AD.

Comments Due Date

(a) We must receive comments by May 20, 2010.

Affected ADs

(b) This AD supersedes AD 2004-22-08, Amendment 39-13836.

Applicability

(c) This AD applies to all Bombardier, Inc. Model CL-600-2B19 (Regional Jet Series 100 & 440) airplanes, serial numbers 7003 and subsequent, certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (l) of this AD. The request should include a description of changes to the required inspections that will ensure the continued operational safety of the airplane.

Subject

(d) Air Transport Association (ATA) of America Code 21: Air conditioning.

Reason

(e) The mandatory continuing airworthiness information (MCAI) states:

Three cases of in-flight loss of cabin pressurization have been reported, resulting from failure of a bulkhead check valve in combination with failure of an air supply duct.

In addition to mandating inspection, rework and/or replacement of the air supply ducts, Airworthiness Directive (AD) CF-2003-05 (subsequently revised to CF-2003-05R1) [which corresponds to FAA AD 2004-22-08] mandated the incorporation of a 4,000 flight-hour repetitive inspection task for bulkhead check valves, Part Numbers (P/N) 92E20-3 and 92E20-4, into the approved maintenance schedule. However, this repetitive inspection task has since been superseded by a 3000 flight-hour periodic discard task for these bulkhead check valves.

This directive mandates revision of the approved maintenance schedule to incorporate the discard task for bulkhead check valves, P/N 92E20-3 and 92E20-4, and supersedes the instructions in Corrective Actions, Part A, of AD CF-2003-05R1, dated 7 February 2006.

Compliance

(f) You are responsible for having the actions required by this AD performed within the compliance times specified, unless the actions have already been done.

Restatement of Requirements of AD 2004-22-08

Service Information Clarifications

(g) Paragraphs (g)(1), (g)(2), and (g)(3) of this AD pertain to the service information referenced in this AD.

(1) Although Bombardier Alert Service Bulletin A601R-21-053, Revision `A,' dated January 28, 2003; and Bombardier Alert Service Bulletin A601R-21-054, dated November 8, 2001; specify to submit certain information to the manufacturer, this AD does not include such a requirement.

(2) Bombardier Alert Service Bulletin A601R-21-054, dated November 8, 2001, recommends sending all damaged check valves to the manufacturer for analysis; however, this AD does not include that requirement.

(3) Accomplishment of the actions specified in Bombardier Alert Service Bulletin A601R-21-053, dated November 8, 2001, before December 2, 2004 (the effective date of AD 2004-22-08), is considered acceptable for compliance with the applicable actions specified in this AD.

Repetitive Inspections/Related Corrective Actions

(h) Within 500 flight hours after December 2, 2004: Do the detailed inspections and related corrective actions required by paragraphs (h)(1) and (h)(2) of this AD, per the Accomplishment Instructions of Bombardier Alert Service Bulletin A601R-21-053, Revision `A,' dated January 28, 2003; and Bombardier Alert Service Bulletin A601R-21-054, dated November 8, 2001; as applicable.

(1) For airplanes having bulkhead check valves with part number (P/N) 92E20-3/-4, as identified in Bombardier Alert Service Bulletin A601R-21-054, dated November 8, 2001: Inspect the left- and right-hand bulkhead check valves for damage (cracking, breakage). If any damage is found, before further flight, replace the damaged valve. Repeat the inspection at intervals not to exceed 4,000 flight hours until the replacement required by paragraph (j) of this AD is done.

(2) For airplanes having serial numbers 7003 through 7067 inclusive, and 7069 through 7477 inclusive: Inspect the left- and right-hand air supply ducts of the rear bulkhead for damage (tearing, delamination, or cracking). If any damage is found, before further flight, either rework or replace the damaged air supply duct, which ends the inspections for that air supply duct only. If no damage is found, repeat the inspection thereafter at intervals not to exceed 500 flight hours until accomplishment of paragraph (i) of this AD.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Terminating Action for Repetitive Inspections of Air Supply Ducts

(i) Except as required by paragraph (h)(2) of this AD, for airplanes having serial numbers 7003 through 7067 inclusive, and 7069 through 7477 inclusive: Within 5,000 flight hours after December 2, 2004, either rework or replace the left- and right-hand air ducts, as applicable, per the Accomplishment Instructions of Bombardier Alert Service Bulletin A601R-21-053, Revision `A,' dated January 28, 2003; and Bombardier Alert Service Bulletin A601R-21-054, dated November 8, 2001; as applicable. Accomplishment of this paragraph ends the repetitive inspections required by paragraph (h)(2) of this AD.

New Requirements of This AD

Actions and Compliance

(j) For airplanes having serial numbers 7003 and subsequent: Within 60 days after the effective date of this AD, revise the Airworthiness Limitations section of the Instructions for Continued Airworthiness to include the information in Bombardier Temporary Revision (TR) 1-2-39, dated December 12, 2008, to Section 2—Systems and Powerplant Program, Part 1 of the Bombardier CL-600-2B19 Maintenance Requirement Manual (MRM) CSP-053. This task requires replacement of the bulkhead check valves having P/N 92E20-3 or 92E20-4 at intervals not to exceed 3,000 flight hours. Operate the airplane thereafter according to the limitations and procedures in the TR.

(k) Thereafter, except as provided in paragraph (j) of this AD, no alternative replacement times or structural inspection intervals may be approved for this bulkhead check valve.

Note 3: The actions required by paragraph (j) of this AD may be done by inserting a copy of Bombardier TR 1-2-39, dated December 12, 2008, into the MRM, which introduces Task 21-51-21-13. When Bombardier Task 21-51-21-13 has been included in general revisions of the MRM, the general revisions may be inserted into the MRM, provided the relevant information in the general revision is identical to that in the TR.

FAA AD Differences

Note 4: This AD differs from the MCAI and/or service information as follows: No differences.

Other FAA AD Provisions

(l) The following provisions also apply to this AD:

(1) Alternative Methods of Compliance (AMOCs): The Manager, New York Aircraft Certification Office, ANE-170, FAA, has the authority to approve AMOCs for this AD, if requested using the procedures found in 14 CFR 39.19. Send information to ATTN: Program Manager, Continuing Operational Safety, FAA, New York ACO, 1600 Stewart Avenue, Suite 410, Westbury, New York, 11590; telephone 516-7300; fax 516-794-5531. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(m) Refer to MCAI Canadian Airworthiness Directive CF-2009-31, dated July 8, 2009; and Bombardier TR 1-2-39, dated December 12, 2008, to Section 2—Systems and Powerplant Program, Part 1 of the Bombardier CL-600-2B19 MRM CSP-053; for related information.

Issued in Renton, Washington, on March 19, 2010.
Ali Bahrami,
Manager, Transport Airplane Directorate, Aircraft Certification Service.

[FR Doc. 2010-6850 Filed 4-2-10; 8:45 am]

BILLING CODE 4910-13-P